DEPARTMENT OF DEFENSE

Department of the Navy

Notice of Extension of Comment Period for the Draft Environmental Impact Statement/Overseas Environmental Impact Statement for Military Readiness Activities in the Northwest Training and Testing Study Area

AGENCY: Department of the Navy, DoD.

ACTION: Notice.

SUMMARY: A notice of availability was published by the U.S. Environmental Protection Agency in the Federal Register (79 FR 4158) on January 24, 2014, for the Northwest Training and Testing (NWTT) Environmental Impact Statement/Overseas Environmental Impact Statement (EIS/OEIS). The public comment period ends on March 25, 2014. This notice announces a 21 day extension of the public comment period until April 15, 2014.

FOR FURTHER INFORMATION CONTACT: Naval Facilities Engineering Command Northwest, Attention: Ms. Kimberly Kler—NWTT EIS/OEIS Project Manager, 1101 Tautog Circle, Suite 203, Silverdale, WA 98315-1101; or http://www.NWTTEIS.com.

SUPPLEMENTARY INFORMATION: The public comment period on the NWTT EIS/OEIS will be extended until April 15, 2014. Comments may be submitted in writing to Naval Facilities Engineering Command Northwest, Attention: Ms. Kimberly Kler, NWTT EIS/OEIS Project Manager, 1101 Tautog Circle Suite 203, Silverdale, Washington, 98315-1101. In addition, comments may be submitted online at http://www.NWTTEIS.com during the comment period. All written comments must be postmarked by April 15, 2014, to ensure they become part of the official record. All written comments will be addressed for the Final EIS.

Copies of the Draft EIS/OEIS are available for public review at the following public libraries:

1. Everett Main Library, 2702 Hoyt Ave., Everett, WA 98201.

2. Gig Harbor Library, 4424 Point Fosdick Drive W., Gig Harbor, WA 98335.

3. Jefferson County Library—Port Hadlock, 620 Cedar Ave., Port Hadlock, WA 98339.

4. Kitsap Regional Library—Poulsbo, 700 NE Lincoln Road, Poulsbo, WA 98370.

5. Oak Harbor Public Library, 1000 SE Regatta Drive, Oak Harbor, WA 98277.

6. Port Angeles Main Library, 2210 S. Peabody St., Port Angeles, WA 98362.

7. Port Townsend Public Library, 1220 Lawrence St., Port Townsend, WA 98368.

8. Sylvan Way Library—Bremerton, 1301 Sylvan Way, Bremerton, WA 98310.

9. Timberland Regional Library—Aberdeen, 121 E. Market St., Aberdeen, WA 98520.

10. Timberland Regional Library—Hoquiam, 420 7th St., Hoquiam, WA 98550.

11. Driftwood Public Library, 801 SW Highway 101, Lincoln City, OR 97367.

12. Lincoln County Library District, 1247 NW Grove, No. 2, Newport, OR 97365.

13. Newport Public Library, 35 NW Nye St., Newport, OR 97365.

14. Astoria Public Library, 450 10th St., Astoria, OR 97103.

15. Tillamook Main Library, 1716 Third St., Tillamook, OR 97141.

16. Fort Bragg Branch Library, 499 Laurel St., Fort Bragg, CA 95437.

17. Humboldt County Public Library, Eureka Main Library, 1313 3rd St., Eureka, CA 95501.

18. Humboldt County Public Library, Arcata Main Library, 500 7th St., Arcata, CA 95521.

19. Juneau Public Library—Downtown Branch, 292 Marine Way, Juneau, AK 99801.

20. Ketchikan Public Library, 629 Dock St., Ketchikan, AK 99901.

Copies of the Draft EIS are available for electronic viewing at http://www.NWTTEIS.com.

Dated: March 19, 2014.
P. A. Richelmi,
Lieutenant, Office of the Judge Advocate General, U.S. Navy, Alternate Federal Register Liaison Officer.

[FR Doc. 2014-06505 Filed 3-24-14; 8:45 am]

BILLING CODE 3810-FF-P